DEPARTMENT OF ENERGY

Federal Energy Regulatory Commission

[Docket No. ER03-539-000]

Quark Power L.L.C.; Notice of Filing

February 21, 2003.

Take notice that on February 14, 2003, Quark Power L.L.C. (Quark) filed with the Federal Energy Regulatory Commission (Commission), pursuant to section 205 of the Federal Power Act, its revised FERC Electric Rate Schedule No. 1 for the resale of Firm Transmission Rights (FTRs), or their equivalent, to become effective as of February 18, 2003.

This filing was sent to PJM Interconnection, L.L.C., the New York Independent System Operator, Inc., and the New England Power Pool/ISO New England, Inc.

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Comment Date: March 3, 2003.

Magalie R. Salas,
Secretary.

[FR Doc. 03-4702 Filed 2-26-03; 8:45 am]

BILLING CODE 6717-01-P